DEPARTMENT OF ENERGY

Federal Energy Regulatory Commission

Combined Notice of Filings #1

Take notice that the Commission received the following exempt wholesale generator filings:

Docket Numbers: EG17-98-000.

Applicants: The NRG Companies.

Description: Notice of Self-Certification of Exempt Wholesale Generator Status of Buckthorn Westex, LLC.

Filed Date: 4/18/17.

Accession Number: 20170418-5172.

Comments Due: 5 p.m. ET 5/9/17.

Take notice that the Commission received the following electric rate filings:

Docket Numbers: ER10-2633-032; ER10-2570-032; ER10-2717-032; ER10-3140-032.

Applicants: Birchwood Power Partners, L.P., Shady Hills Power Company, L.L.C., EFS Parlin Holdings, LLC, Inland Empire Energy Center, LLC.

Description: Notice of Non-Material Change in Status of the GE Companies.

Filed Date: 4/17/17.

Accession Number: 20170417-5301.

Comments Due: 5 p.m. ET 5/8/17.

Docket Numbers: ER12-1470-008.

Applicants: Energia Sierra Juarez U.S., LLC.

Description: Notice of Non-Material Change in Status of Energia Sierra Juarez U.S., LLC.

Filed Date: 4/18/17.

Accession Number: 20170418-5180.

Comments Due: 5 p.m. ET 5/9/17.

Docket Numbers: ER17-1217-000.

Applicants: Total Gas & Power North America, Inc.

Description: Supplement to March 16, 2017 Total Gas & Power North America, Inc. tariff filing.

Filed Date: 4/18/17.

Accession Number: 20170418-5088.

Comments Due: 5 p.m. ET 4/28/17.

Docket Numbers: ER17-1394-000.

Applicants: 83WI 8me, LLC.

Description: Supplement to April 7, 2017 83WI 8me, LLC tariff filing (Substitute Market Power Screen Attachments).

Filed Date: 4/17/17.

Accession Number: 20170417-5334.

Comments Due: 5 p.m. ET 5/8/17.

Docket Numbers: ER17-1429-000.

Applicants: Monongahela Power Company, PJM Interconnection, L.L.C.

Description: § 205(d) Rate Filing: Monongahela submits Operating and Interconnection Agreement No. 4673 with ODEC to be effective 4/19/2017.

Filed Date: 4/18/17.

Accession Number: 20170418-5171.

Comments Due: 5 p.m. ET 5/9/17.

Docket Numbers: ER17-1430-000.

Applicants: PJM Interconnection, L.L.C.

Description: Compliance filing: Errata to Compliance Filing in Docket No. ER17-335-001 to be effective 1/9/2017.

Filed Date: 4/18/17.

Accession Number: 20170418-5289.

Comments Due: 5 p.m. ET 5/9/17.

Take notice that the Commission received the following public utility holding company filings:

Docket Numbers: PH17-13-000.

Applicants: ArcLight Capital Holdings, LLC.

Description: ArcLight Capital Holdings, LLC submits FERC 65-A Exemption Notification.

Filed Date: 4/17/17.

Accession Number: 20170417-5305.

Comments Due: 5 p.m. ET 5/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2017.
Kimberly D. Bose,
Secretary.

[FR Doc. 2017-08262 Filed 4-24-17; 8:45 am]

BILLING CODE 6717-01-P